DEPARTMENT OF HEALTH AND HUMAN SERVICES

Health Resources and Service Administration

Advisory Committee on Interdisciplinary, Community-Based Linkages

AGENCY: Health Resources and Service Administration (HRSA), Department of Health and Human Services (HHS).

ACTION: Notice of meetings.

SUMMARY: In accordance with the Federal Advisory Committee Act, notice is hereby given that two orientation meetings are scheduled for the Advisory Committee on Interdisciplinary, Community-Based Linkages (ACICBL). These meetings will be open to the public. Information about the ACICBL and the agenda for these meetings can be obtained by accessing the ACICBL website at: https://www.hrsa.gov/advisory-committees/interdisciplinary-community-linkages/meetings/index.html.

DATES: In order to accommodate the schedules of the ACICBL members, two orientation meetings will be held. The first meeting will be on March 15, 2018 from 11:00 a.m.-4:00 p.m., ET and the second meeting will be on March 27, 2018 from 12:00 p.m.-5:00 p.m., ET.

ADDRESSES: These meetings will be held via conference call/webinar.

• The teleconference call-in number is 1-800-619-2521, passcode: 9271697.

• The webinar link is https://hrsa.connectsolutions.com/acicbl.

FOR FURTHER INFORMATION CONTACT: Anyone requesting information regarding the ACICBL should contact Joan Weiss, Ph.D., RN, CRNP, FAAN, HRSA, in one of three ways: (1) Send a request to the following address: Joan Weiss, Ph.D., RN, CRNP, FAAN, Senior Advisor and Designated Federal Officer, Division of Medicine and Dentistry, HRSA, 5600 Fishers Lane, Room 15N39, Rockville, Maryland 20857; (2) call (301) 443-0430; or (3) send an email to jweiss@hrsa.gov.

SUPPLEMENTARY INFORMATION: The ACICBL provides advice and recommendations on a broad range of issues relating to grant programs authorized by sections 750-760, Title VII, Part D of the Public Health Service Act. During the March 15, 2018 and March 27, 2018 meetings. ACICBL members will be oriented to the work of the Committee and identify potential topics to work on for 2018.

The ACICBL's reports are submitted to the Secretary of HHS; the Committee on Health, Education, Labor, and Pensions of the U.S. Senate; and the Committee on Energy and Commerce of the U.S. House of Representatives.

Members of the public will have the opportunity to provide comments. Oral comments will be honored in the order they are requested and may be limited as time allows. Requests to make oral comments or provide written comments to the ACICBL should be sent by March 13, 2018 for the March 15, 2018 meeting and by March 25, 2018 for the March 27, 2018 meeting.

Amy McNulty,
Acting Director, Division of the Executive Secretariat.

[FR Doc. 2018-04815 Filed 3-8-18; 8:45 am]

BILLING CODE 4165-15-P